Proclamation 7319 of June 9, 2000

Establishment of the Hanford Reach National Monument

By the President of the United States of America

A Proclamation

The Hanford Reach National Monument is a unique and biologically diverse landscape, encompassing an array of scientific and historic objects. This magnificent area contains an irreplaceable natural and historic legacy, preserved by unusual circumstances. Maintained as a buffer area in a Federal reservation conducting nuclear weapons development and, more recently, environmental cleanup activities, with limits on development and human use for the past 50 years, the monument is now a haven for important and increasingly scarce objects of scientific and historic interest. Bisected by the stunning Hanford Reach of the Columbia River, the monument contains the largest remnant of the shrub-steppe ecosystem that once blanketed the Columbia River Basin. The monument is also one of the few remaining archaeologically rich areas in the western Columbia Plateau, containing well-preserved remnants of human history spanning more than 10,000 years. The monument is equally rich in geologic history, with dramatic landscapes that reveal the creative forces of tectonic, volcanic, and erosive power.

The monument is a biological treasure, embracing important riparian, aquatic, and upland shrub-steppe habitats that are rare or in decline in other areas. Within its mosaic of habitats, the monument supports a wealth of increasingly uncommon native plant and animal species, the size and diversity of which is unmatched in the Columbia Basin. Migrating salmon, birds, and hundreds of other native plant and animal species rely on its natural ecosystems.

The monument includes the 51-mile long “Hanford Reach,” the last free-flowing, nontidal stretch of the Columbia River. The Reach contains islands, riffles, gravel bars, oxbow ponds, and backwater sloughs that support some of the most productive spawning areas in the Northwest, where approximately 80 percent of the upper Columbia Basin's fall chinook salmon spawn. It also supports healthy runs of naturally-spawning sturgeon and other highly-valued fish species. The loss of other spawning grounds on the Columbia and its tributaries has increased the importance of the Hanford Reach for fisheries.

The monument contains one of the last remaining large blocks of shrub-steppe ecosystems in the Columbia River Basin, supporting an unusually high diversity of native plant and animal species. A large number of rare and sensitive plant species are found dispersed throughout the monument. A recent inventory resulted in the discovery of two plant species new to science, the Umtanum desert buckwheat and the White Bluffs bladderpod. Fragile microbiotic crusts, themselves of biological interest, are well developed in the monument and play an important role in stabilizing soils and providing nutrients to plants.

The monument contains significant breeding populations of nearly all steppe and shrub-steppe dependent birds, including the loggerhead shrike, the sage sparrow, the sage thrasher, and the ferruginous hawk. The Hanford Reach and surrounding wetlands provide important stop-over habitat for migratory birds, as well as habitat for many resident species. The area is important wintering habitat for bald eagles, white pelicans, and many species of waterfowl such as mallards, green-winged teal, pintails, goldeneye, gadwall, and buffleheads. The monument's bluff habitats provide valuable nesting sites for several bird species, including prairie falcons, and important perch sites for raptors such as peregrine falcons.

Many species of mammals are also found within the monument, including elk, beaver, badgers, and bobcats. Insect populations, though less conspicuous, include species that have been lost elsewhere due to habitat conversion, fragmentation, and application of pesticides. A recent biological inventory uncovered 41 species and 2 subspecies of insects new to science and many species not before identified in the State of Washington. Such rich and diverse insect populations are important to supporting the fauna in the monument.

In addition to its vital biological resources, the monument contains significant geological and paleontological objects. The late-Miocene to late-Pliocene Ringold Formation, known as the White Bluffs, was formed from river and lake sediments deposited by the ancestral Columbia River and its tributaries. These striking cliffs form the eastern bank of the Columbia for nearly half of the length of the Reach, and are significant for the mammalian fossils that they contain. Fossil remains from rhinoceros, camel, and mastodon, among others, have been found within these bluffs.

The Hanford Dune Field, located on the western shore of the Columbia in the southeastern part of the monument, is also of geologic significance. This active area of migrating barchan dunes and partially stabilized transverse dunes rises 10 to 16 feet above the ground, creating sandy habitats ranging from 2 to several hundred acres in size.

The monument also contains important archaeological and historic information. More than 10,000 years of human activity in this largely arid environment have left extensive archaeological deposits. Areas upland from the river show evidence of concentrated human activity, and recent surveys indicate extensive use of arid lowlands for hunting. Hundreds of prehistoric archaeological sites have been recorded, including the remains of pithouses, graves, spirit quest monuments, hunting camps, game drive complexes, quarries, and hunting and kill sites. A number of Native American groups still have cultural ties to the monument. The monument also contains some historic structures and other remains from more recent human activities, including homesteads from small towns established along the riverbanks in the early 20th century.

Section 2 of the Act of June 8, 1906 (34 Stat. 225, 16 U.S.C. 431), authorizes the President, in his discretion, to declare by public proclamation historic landmarks, historic and prehistoric structures, and other objects of historic or scientific interest that are situated upon the lands owned or controlled by the Government of the United States to be national monuments, and to reserve as a part thereof parcels of land, the limits of which in all cases shall be confined to the smallest area compatible with the proper care and management of the objects to be protected.

WHEREAS it appears that it would be in the public interest to reserve such lands as a national monument to be known as the Hanford Reach National Monument:

NOW, THEREFORE, I, WILLIAM J. CLINTON, President of the United States of America, by the authority vested in me by section 2 of the Act of June 8, 1906 (34 Stat. 225, 16 U.S.C. 431), do proclaim that there are hereby set apart and reserved as the Hanford Reach National Monument, for the purpose of protecting the objects identified above, all lands and interests in lands owned or controlled by the United States within the boundaries of the area described on the map entitled “Hanford Reach National Monument” attached to and forming a part of this proclamation. The Federal land and interests in land reserved consist of approximately 195,000 acres, which is the smallest area compatible with the proper care and management of the objects to be protected.

All Federal lands and interests in lands within the boundaries of this monument are hereby appropriated and withdrawn from all forms of entry, location, selection, sale, or leasing or other disposition under the public land laws, including but not limited to withdrawal from location, entry, and patent under the mining laws, and from disposition under all laws relating to mineral and geothermal leasing, other than by exchange that furthers the protective purposes of the monument.

For the purpose of protecting the objects identified above, the Secretary of the Interior and the Secretary of Energy shall prohibit all motorized and mechanized vehicle use off road, except for emergency or other federally authorized purposes, including remediation purposes. There is hereby reserved, as of the date of this proclamation and subject to valid existing rights, a quantity of water in the Columbia River sufficient to fulfill the purposes for which this monument is established. Nothing in this reservation shall be construed as a relinquishment or reduction of any water use or rights reserved or appropriated by the United States on or before the date of this proclamation.

For the purpose of protecting the objects identified above, the Secretary of the Interior shall prohibit livestock grazing.

The monument shall be managed by the U.S. Fish and Wildlife Service under existing agreements with the Department of Energy, except that the Department of Energy shall manage the lands within the monument that are not subject to management agreements with the Service, and in developing any management plans and rules and regulations governing the portions of the monument for which the Department of Energy has management responsibility, the Secretary of Energy shall consult with the Secretary of the Interior.

As the Department of Energy and the U.S. Fish and Wildlife Service determine that lands within the monument managed by the Department of Energy become suitable for management by the U.S. Fish and Wildlife Service, the U.S. Fish and Wildlife Service will assume management by agreement with the Department of Energy. All agreements between the U.S. Fish and Wildlife Service and the Department of Energy shall be consistent with the provisions of this proclamation.

Nothing in this proclamation shall affect the responsibility of the Department of Energy under environmental laws, including the remediation of hazardous substances or the restoration of natural resources at the Hanford facility; nor affect the Department of Energy's statutory authority to control public access or statutory responsibility to take other measures for environmental remediation, monitoring, security, safety, or emergency preparedness purposes; nor affect any Department of Energy activities on lands not included within the monument.

Nothing in this proclamation shall be deemed to enlarge or diminish the jurisdiction of the State of Washington with respect to fish and wildlife management.

Nothing in this proclamation shall enlarge or diminish the rights of any Indian tribe.

The establishment of this monument is subject to valid existing rights.

Nothing in this proclamation shall interfere with the operation and maintenance of existing facilities of the Columbia Basin Reclamation Project, the Federal Columbia River Transmission System, or other existing utility services that are located within the monument. Existing Federal Columbia River Transmission System facilities located within the monument may be replaced, modified and expanded, and new facilities constructed within the monument, as authorized by other applicable law. Such replacement, modification, expansion, or construction of new facilities shall be carried out in a manner consistent with proper care and management of the objects of this proclamation, to be determined in accordance with the management arrangements previously set out in this proclamation.

Nothing in this proclamation shall be deemed to revoke any existing withdrawal, reservation, or appropriation; however, the national monument shall be the dominant reservation.

Warning is hereby given to all unauthorized persons not to appropriate, injure, destroy, or remove any feature of this monument and not to locate or settle upon any of the lands thereof.

IN WITNESS WHEREOF, I have hereunto set my hand this ninth day of June, in the year of our Lord two thousand, and of the Independence of the United States of America the two hundred and twenty-fourth.

wj

Billing code 3195-01-P

[FR Doc. 00-15111

Filed 6-12-00; 10:47 am]

Billing code 3195-01-C